DEPARTMENT OF HEALTH AND HUMAN SERVICES

Centers for Disease Control and Prevention

[Program Announcement 04106]

Development of Influenza Surveillance Networks Amendment

A notice announcing the availability of fiscal year (FY2004 funds for a cooperative agreement entitled, “Development of Influenza Surveillance Networks” was published in the Federal Register Tuesday, April 27, 2004, Volume 69, Number 81, pages 22806-22810. The notice is amended as follows:

On page 22806, column one, after “Application Deadline': Please change the application deadline from June 28, 2004 to July 13, 2004. Also, on page 22808, column three, under section “IV.3. Submission Dates and Times”, after “Application Deadline Date”, please change the application deadline date from June 28, 2004 to July 13, 2004.

Dated: July 8, 2004.
Alan A. Kotch,
Acting Director, Procurement and Grants Office, Centers for Disease Control and Prevention.

[FR Doc. 04-16170 Filed 7-15-04; 8:45 am]

BILLING CODE 4163-18-P